DEPARTMENT OF TRANSPORTATION

Federal Aviation Administration

Approval of Noise Compatibility Program for Fresno-Yosemite International Airport, Fresno, CA

AGENCY: Federal Aviation Administration, DOT

ACTION: Notice

SUMMARY: The Federal Aviation Administration (FAA) announces its findings on the noise compatibility program submitted by the City of Fresno, California under the provisions of 49 U.S.C. (the Aviation Safety and Noise Abatement Act, hereinafter referred to as “the Act”) and 14 CFR Part 150. These findings are made in recognition of the description of Federal and nonfederal responsibilities in Senate Report No. 96-52 (1980). On July 6, 2005 (70 FR 50437-50438), the FAA determined that the noise exposure maps submitted by the city of Fresno under Part 150 were in compliance with applicable requirements. On July 28, 2008, the FAA approved the Fresno-Yosemite International Airport noise compatibility program. All of the recommendations of the program were approved. No program elements relating to new or revised flight procedures for noise abatement were proposed by the airport operator.

DATES: Effective Date: The effective date of the FAA's approval of the Fresno Yosemite International Airport noise compatibility program is July 28, 2008.

FOR FURTHER INFORMATION CONTACT: David B. Kessler, AICP, Regional Environmental Protection Specialist, Federal Aviation Administration, Western Pacific Region, Mailing address: P.O. Box 92007, Los Angeles, CA 90009-2007. Street Address: 15000 Aviation Boulevard, Hawthorne, California 90261. Telephone 310/725-3615. Documents reflecting this FAA action may be reviewed at this same location.

SUPPLEMENTARY INFORMATION: This notice announces that the FAA has given its overall approval to the Noise Compatibility Program for Fresno-Yosemite International Airport, effective July 28, 2008.

Under section 47504 of the Act, an airport operator who has previously submitted a noise exposure map may submit to the FAA a noise compatibility program which sets forth the measures taken or proposed by the airport operator for the reduction of existing non-compatible land uses and prevention of additional non-compatible land uses within the area covered by the Noise Exposure Maps. The Act requires such programs to be developed in consultation with interested and affected parties including local communities, government agencies, airport users, and FM personnel.

Each airport noise compatibility program developed in accordance with Federal Aviation Regulations (FAR) Part 150 is a local program, not a Federal program. The FAA does not substitute its judgment for that of the airport proprietor with respect to which measures should be recommended for action. The FAA's approval or disapproval of 14 CFR Part 150 program recommendations is measured according to the standards expressed in Part 150 and the Act and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where federal funding is sought, requests for project grants must be submitted to the FAA Airports District Office in Burlingame, California.

The City of Fresno submitted to the FAA on April 20, 2005, the Noise Exposure Maps, descriptions, and other documentation produced during the noise compatibility planning study conducted from October 2002 through June 2006. The Fresno-Yosemite International Airport Noise Exposure Maps were determined by FAA to be in compliance with applicable requirements on July 6, 2005. Notice of this determination was published in the Federal Register on August 26, 2005 (70 FR 50437-50438).

The Fresno-Yosemite International Airport study contains a proposed noise compatibility program comprised of actions designed for phased implementation by airport management and adjacent jurisdictions from (2004 to beyond the year 2009). It was requested that the FAA evaluate and approve this material as a Noise Compatibility Program as described in 49 U.S.C. § 47504 of the Act. The City of Fresno initially submitted its noise compatibility program for the subject airport to the FAA on May 26, 2006 (71 FR 33032-33033). In a letter received by FAA on September 15, 2006, the City of Fresno requested that FAA suspend its review and processing of the noise compatibility program in order to modify the document. FAA terminated its formal review of the City of Fresno's noise compatibility program effective September 15, 2006 (71 FR 56582). Subsequently, the City of Fresno submitted their revised noise compatibility program to FAA. Therefore, the FAA has formally received the noise compatibility program for FAT, effective on April 18, 2008. The FAA began its review of the program on April 18, 2008, and was required by a provision of the Act to approve or disapprove the program within 180 days (other than the use of new or modified flight procedures for noise control). Failure to approve or disapprove such program within the 180-day period shall be deemed to be an approval of such program.

The submitted program contained twenty-five (25) proposed actions for noise abatement, land use management and program management on and off the airport. The FAA completed its review and determined that the procedural and substantive requirements of the Act and FAR Part 150 have been satisfied. The overall program was approved, by the Manager of the Airports Division, Western-Pacific Region, effective July 28, 2008.

Outright approval was granted for the two (2) noise abatement measures, all fourteen (14) land use management measures and nine (9) program management measures. The approved noise abatement measures included: Maintain CANG Noise Abatement Departure Track Procedures; and Continued Use of Minimum Altitudes Before Departure Turns Off Runways 29L and 29R.

Approved land use measures include: Land Acquisition of Developed Non-Compatible Property; Residential Sound Insulation Program; Noise Sensitive Public Building Sound Insulation Program; Purchase of Avigation Easements; Encourage Comprehensive Planning for Compatible Land Uses and Adoption of NEMs; Amend Zoning for Compatible Use; Adopt Airport Noise Overlay Zone; Amend Building Codes to Meet Interior Noise Levels; Require Avigation Easement with New Construction; Support Real Property Noise Disclosure; Transfer of Development Rights; Purchase of Development Rights; Purchase of Vacant Land That May Be Developed Into NonCompatible Use; Encourage the Local Jurisdictions to Develop Compatible Land Uses in the Airport Environs.

Approved Program Management measures include: Monitor Airport Operations to Determine Need for NEM and/or NCP Updates; Acquire a Flight Tracking System and/or Noise and Operations Monitoring System (NOMS); Monitor Aircraft Engine Run-ups and Complaints as a Trigger for a Future Ground Run-up Enclosure (GRE) Replacement Needs Analysis Study; Establish Staff Position to Monitor and Coordinate Implementation of the NCP Measures; Increase Community Outreach; Expand Airport Noise Section on the FAT Website; Develop Standardize Complaint Collection, Response, and Recording Procedures; Establish an Airport Noise Advisory Committee; Develop and Distribute Pilot Handouts.

These determinations are set forth, in detail, in the Record of Approval signed by the Manager of the Airports Division, Western-Pacific Region, on July 28, 2008. The Record of Approval, as well as other evaluation materials and the documents comprising the submittal, are available for review at the FAA office listed above and at the administrative offices of the City of Fresno. The Record of Approval will be available on-line at: http://www.faa.gov/airports_airtraffic/airports/environmental/airport_noise/ part_150/states/.

Issued in Hawthorne, California on July 29, 2008.
Mark A. McClardy
Manager, Airports Division, Western-Pacific Region, AWP-600

[FR Doc. E8-18086 Filed 8-7-08; 8:45 am]

BILLING CODE 4910-13-M